DEPARTMENT OF THE INTERIOR

Bureau of Indian Affairs

Land Acquisitions; Ponca Tribe of Nebraska

AGENCY: Bureau of Indian Affairs, Interior.

ACTION: Notice of final agency determination to take land into trust under 25 CFR Part 151.

SUMMARY: The Assistant Secretary—Indian Affairs made a final agency determination to acquire approximately 3 acres, more or less, of land into trust for the Ponca Tribe of Nebraska on December 20, 2002. This notice is published in the exercise of authority delegated by the Secretary of the Interior to the Assistant Secretary—Indian Affairs by 209 Departmental Manual 8.1.

FOR FURTHER INFORMATION CONTACT: George Skibine, Office of Indian Gaming Management, Bureau of Indian Affairs, MS-4543 MIB, 1849 C Street, NW., Washington, DC 20240; Telephone (202) 219-4066.

SUPPLEMENTARY INFORMATION: This notice is published to comply with the requirement of 25 CFR part 151.12(b) that notice be given to the public of the Secretary's decision to acquire land in trust at least 30 days prior to signatory acceptance of the land into trust. The purpose of the 30-day waiting period in 25 CFR part 151.12(b) is to afford interested parties the opportunity to seek judicial review of final administrative decisions to take land in trust for Indian tribes and individual Indians before transfer of title to the property occurs. On December 20, 2002, the Assistant Secretary—Indian Affairs decided to accept approximately 3 acres, more or less, of land into trust for the Ponca Tribe of Nebraska under the authority of the Indian Reorganization Act of 1934, 25 U.S.C. 465. The Ponca Tribe was legislatively terminated in 1962 pursuant to the Ponca Termination Act, Public Law 87-629, 25 U.S.C. 971-980. Pursuant to Public Law 101-484, 25 U.S.C. 983-983(h), dated October 31, 1990 the Tribe was restored to federal recognition. In a memorandum dated November 22, 2002, the Associate Solicitor, Division of Indian Affairs, concluded that the prohibition on gaming on after-acquired trust lands contained in Section 20 of IGRA, 25 U.S.C. 2719, does not apply in this case because the Ponca Tribe is a restored tribe within the meaning of 25 U.S.C. 2719(b)(1)(B)(iii), and the acquisition of land in Knox County qualifies as “the restoration of lands” for an Indian tribe that is restored to Federal recognition for purposes of 25 U.S.C. 2719(b)(1)(B)(iii) because it is located within Knox County, and the Ponca Tribe Restoration Act mandates that the Secretary acquire land for the Ponca Tribe in Knox County.

The legal description of the property is as follows:

A tract of land lying wholly in Out Lot G, Park Addition to the Village of Crofton, Knox County, Nebraska, more particularly described as follows: Commencing at a point 150.0 feet West of the Northeast corner of said Out Lot G; thence West, along the North line of said Out Log G, 166.0 feet; thence South 132.8 feet; thence East 70.7 feet; thence South 42.2 feet; thence East 95.3 feet; thence North 1750.0 feet to the point of beginning.

The property consists of approximately 3 acres located in Knox County, Nebraska.

Dated: December 20, 2002.
Neal A. McCaleb,
Assistant Secretary—Indian Affairs.

[FR Doc. 03-5062 Filed 3-4-03; 8:45 am]

BILLING CODE 4310-4N-M